DEPARTMENT OF THE INTERIOR

Bureau of Indian Affairs

[201A2100DD/AAKC001030/A0A51010.999900]

Land Acquisitions; the Grand Traverse Band of Ottawa and Chippewa Indians, Michigan

AGENCY: Bureau of Indian Affairs, Interior.

ACTION: Notice.

SUMMARY: The Assistant Secretary—Indian Affairs has made a final determination to acquire 160.55 acres, more or less, of land in Acme Township, Grand Traverse County, Michigan into trust for the Grand Traverse Band of Ottawa and Chippewa Indians (“Tribe”) for non-gaming purposes.

FOR FURTHER INFORMATION CONTACT: Ms. Sharlene M. Round Face, Division of Real Estate Services, Office of Trust Services, Bureau of Indian Affairs, Sharlene.roundface@bia.gov, telephone (505) 563-3132.

SUPPLEMENTARY INFORMATION: This notice is published in the exercise of authority delegated by the Secretary of the Interior to the Assistant Secretary—Indian Affairs by chapter 8, part 209 of the Departmental Manual, and is published to comply with the requirement of 25 CFR 151.12(c)(2)(ii) that notice of the decision to acquire land in trust be promptly published in the Federal Register.

On March 31, 2020, the Assistant Secretary—Indian Affairs issued a decision to accept Parcel 88 in trust for the Tribe under the authority of Section 5 of the Indian Reorganization Act of 1934 (48 Stat. 94).

The Department of Interior will immediately acquire title to Parcel 88 in the name of the United States in trust for the Tribe upon fulfillment of Department requirements.

Legal Description

Grand Traverse Band of Ottawa and Chippewa Indians, Acme Township, Grand Traverse County, Michigan, Legal Description Containing 160.55 Acres, More or Less

Parcel 88

That part of the Northeast Fractional One-Quarter and part of the East One-Half of the Northwest Fractional One-Quarter of Section 2, Town 27 North, Range 10 West, Acme Township, Grand Traverse County, Michigan, more fully described as:

Commencing at the Northeast Corner of said Section 2, thence South 00°19′33″ East, 1238.74 feet, along the East Line of said Section, to the POINT OF BEGINNING;

thence continuing South 00°19′33″ East, 1231.35 feet, along said East Section Line, to the East and West One-Quarter line of said Section 2;

thence North 87°12′31″ West, 1,303.71 feet, along said One-Quarter line;

thence North 00°34′18″ West, 497.61 feet, to the Northerly line of the South 30 acres of the Southeast One-Quarter of the Northwest Fractional One-Quarter and the Southwest One-Quarter of the Northeast Fractional One-Quarter of said Section 2;

thence North 87°12′31″ West, 2,630.09 feet, along said Northerly line, to the West One-Eighth line of said Section 2;

thence North 00°32′56″ West, 842.21 feet, along said One-Eighth line;

thence South 87°08′51″ East, 214.88 feet;

thence North 00°32′56″ West, 1050.75 feet, parallel to and 13 rods East of said West One-Eighth line, to the Southerly Right-of-Way of State Highway M-72;

thence along said Southerly Right-of-Way the following fifteen (15) courses;

thence South 87°56′03″ East, 98.68 feet;

thence Southeasterly, 656.97 feet, along the arc of a 57170.78 foot radius curve to the right, the central angle of which is 00°39′30″ and the long chord of which bears South 87°35′43″ East, 656.97 feet;

thence North 02°43′59″ East, 50.00 feet;

thence Southeasterly, 381.31 feet, along the arc of a 57175.09 foot radius curve to the right, the central angle of which is 00°22′56″ and the long chord of which bears South 87°04′30″ East, 381.31 feet;

thence South 41°44′32″ East, 197.74 feet;

thence Southeasterly, 166.38 feet, along the arc of a 57080.78 foot radius curve to the right, the central angle of which is 00°10′01″ and the long chord of which bears South 86°39′39″ East, 166.38 feet;

thence North 47°24′34″ East, 125.00 feet;

thence Southeasterly, 303.34 feet, along the arc of a 57170.78 foot radius curve to the right, the central angle of which is 00°18′14″ and the long chord of which bears South 86°20′18″ East, 303.34 feet;

thence North 03°48′47″ East, 25.00 feet;

thence Southeasterly, 252.15 feet, along the arc of a 57195.78 foot radius curve to the right, the central angle of which is 00°15′09″ and the long chord of which bears South 86°03′36″ East, 252.15 feet;

thence South 85°56′01″ East, 247.54 feet;

thence South 04°03′59″ West, 5.00 feet;

thence South 85°56′01″ East, 40.00 feet;

thence North 04°03′59″ East, 5.08 feet;

thence South 85°56′01″ East, 273.58 feet;

thence Southeasterly, 743.68 feet, along the arc of a 34477.47 foot radius curve to the left, the central angle of which is 01°14′09″ and the long chord of which bears South 86°33′04″ East, 743.67 feet;

thence South 00°19′33″ East, 127.79 feet;

thence South 85°56′06″ East, 25.00 feet;

thence South 00°19′33″ East, 105.00 feet;

thence North 87°43′34″ West, 728.33 feet;

thence South 02°25′27″ West, 768.43 feet;

thence South 87°34′33″ East, 171.00 feet;

thence Southeasterly, 23.56 feet, along the arc of a 15.00 foot radius curve to the right, the central angle of which is 90°00′00″, and the long chord of which bears South 42°34′33″ East, 21.21 feet;

thence South 02°25′27″ West, 71.32 feet;

thence South 87°34′33″ East, 66.49 feet;

thence Southeasterly, 106.26 feet, along the arc of a 200.00 foot radius curve to the right, the central angle of which is 30°26′33″, and the long chord of which bears South 72°21′17″ East, 105.02 feet;

thence South 57°08′00″ East, 46.71 feet;

thence Southeasterly, 53.13 feet, along the arc of a 100.00 foot radius curve to the left, the central angle of which is 30°26′33″, and the long chord of which bears South 72°21′17″ East, 52.51 feet;

thence South 87°34′33″ East, 641.17 feet, to a point on the East Line of said Section 2 and the POINT OF BEGINNING

Subject to the Right-of-Way of Lautner Road over the Easterly 33 feet thereof.

Tara Sweeney,
Assistant Secretary—Indian Affairs.

[FR Doc. 2020-08180 Filed 4-16-20; 8:45 am]

BILLING CODE 4337-15-P